DEPARTMENT OF HOMELAND SECURITY

Coast Guard

33 CFR Part 165

[Docket No. USCG-2018-1038]

RIN 1625-AA00

Safety Zone; Sausalito Lighted Boat Parade Fireworks Display; Richardson Bay, Sausalito, CA

AGENCY: Coast Guard, DHS.

ACTION: Notice of enforcement of regulation.

SUMMARY: The Coast Guard will enforce the safety zone for the Sausalito Lighted Boat Parade Fireworks Display in the Captain of the Port, San Francisco area of responsibility during the dates and times noted below. This action is necessary to protect personnel, vessels, and the marine environment from the dangers associated with pyrotechnics. Unauthorized persons or vessels are prohibited from entering into, transiting through, or remaining in the safety zone without permission of the Captain of the Port or their designated representative.

DATES: The regulations in 33 CFR 165.1191, Table 1, Item number 30, will be enforced from 10 a.m. to 8:10 p.m. on December 8, 2018.

FOR FURTHER INFORMATION CONTACT: If you have questions on this notice, call or email Lieutenant Junior Grade Jennae Cotton, U.S. Coast Guard Sector San Francisco; telephone (415) 399-3585 or email at SFWaterways@uscg.mil.

SUPPLEMENTARY INFORMATION: The Coast Guard will enforce the safety zone established in 33 CFR 165.1191, Table 1, Item number 30, on December 8, 2018. The Coast Guard will enforce a 100-foot safety zone around the fireworks barge during the loading, transit, and arrival of the fireworks barge from the loading location to the display location and until the start of the fireworks display. From 10 a.m. until 4 p.m. on December 8, 2018, the fireworks barge will be loading pyrotechnics at Pier 50 in San Francisco, CA. The fireworks barge will remain at the loading location until its transit to the display location. From 5 p.m. to 6 p.m. on December 8, 2018 the loaded fireworks barge will transit from Pier 50 to the launch site near Sausalito Point in approximate position 37°51′29.23″ N, 122°28′25″ W (NAD 83) where it will remain until the conclusion of the fireworks display. At 7 p.m. on December 8, 2018, 30 minutes prior to the commencement of the 10-minute fireworks display, the safety zone will encompass the navigable waters surrounding the fireworks barge near Sausalito Point in Sausalito, CA within a radius of 1,000 feet from approximate position 37°51′29.23″N, 122° 28′25″ W (NAD 83) for the Sausalito Lighted Boat Parade Fireworks Display in 33 CFR 165.1191, Table 1, Item number 30. The safety zone shall terminate at 8:10 p.m. on December 8, 2018.

Under the provisions of 33 CFR 165.1191, unauthorized persons or vessels are prohibited from entering into, transiting through, or anchoring in the safety zone during all applicable effective dates and times, unless authorized to do so by the PATCOM. Additionally, each person who receives notice of a lawful order or direction issued by an official patrol vessel shall obey the order or direction. The PATCOM is empowered to forbid entry into and control the regulated area. The PATCOM shall be designated by the Commander, Coast Guard Sector San Francisco. The PATCOM may, upon request, allow the transit of commercial vessels through regulated areas when it is safe to do so.

This notice is issued under authority of 33 CFR 165.1191 and 5 U.S.C. 552(a). In addition to this notice in the Federal Register, the Coast Guard will provide the maritime community with extensive advance notification of the safety zone and its enforcement period via the Local Notice to Mariners.

If the Captain of the Port determines that the regulated area need not be enforced for the full duration stated in this notice, a Broadcast Notice to Mariners may be used to grant general permission to enter the regulated area.

Dated: November 28, 2018.
Rebecca W. Deakin,
Lieutenant Commander, U.S. Coast Guard, Chief, Waterways Management Division.

[FR Doc. 2018-26366 Filed 12-4-18; 8:45 am]

BILLING CODE 9110-04-P